ENVIRONMENTAL PROTECTION AGENCY

40 CFR Part 52

[SIP NOS. CO-001-0052, CO-001-0032, CO9-3-5603; FRL-7503-4]

Approval and Promulgation of Air Quality Implementation Plans; Colorado; State Implementation Plan Corrections

AGENCY: Environmental Protection Agency (EPA).

ACTION: Final rule; technical correction.

SUMMARY: When EPA approved the Denver-Boulder metropolitan carbon monoxide (CO) area redesignation to attainment, maintenance plan and amendments to Colorado's Regulation No. 11, “Motor Vehicle Emissions Inspection Program,” on December 14, 2001, we inadvertently removed the appendices to Regulation No. 11 from the State Implementation Plan (SIP). When EPA approved the Colorado Springs carbon monoxide area redesignation to attainment and maintenance plan on April 25, 1999, we inadvertently failed to indicate that a control measure had been removed from the SIP. Finally, when EPA approved revisions to the Colorado Ozone SIP along with amendments to Regulation No. 7, “Regulation To Control Emissions of Volatile Organic Compounds,” on May 30, 1995, we inadvertently submitted extraneous pages for incorporation by reference into the SIP and referenced incorrect state rules. EPA is correcting these errors with this document.

DATES: This rule is effective on July 17, 2003.

FOR FURTHER INFORMATION CONTACT: Laurie Ostrand, EPA, Region 8, (303) 312-6437.

SUPPLEMENTARY INFORMATION: Throughout this document, wherever “we” or “our” is used it means the EPA.

Section 553 of the Administrative Procedures Act, 5 U.S.C. 553(b)(B), provides that, when an agency for good cause finds that notice and public procedures are impracticable, unnecessary or contrary to the public interest, the agency may issue a rule without providing notice and an opportunity for public comment. We have determined that there is good cause for making today's rule final without prior proposal and opportunity for comment because we are merely correcting incorrect text in previous rulemakings. Thus notice and public procedure are unnecessary. We find that this constitutes good cause under 5 U.S.C. 553(b)(B).

I. Correction

A. Correction to Federal Register Document Published on December 14, 2001 (66 FR 64751)

When we approved the Denver-Boulder metropolitan carbon monoxide (CO) area redesignation to attainment, maintenance plan and amendments to Colorado's Regulation No. 11, “Motor Vehicle Emissions Inspection Program,” on December 14, 2001 (66 FR 64751), we inadvertently removed the appendices to Regulation No. 11. Specifically, we approved Regulation No. 11 at 40 CFR 52.320(c)(96)(i)(A) and indicated that Regulation No. 11, part A, part B, part C, part D, part E and part F, effective March 1, 2000, superseded and replaced all earlier versions of the Regulation. However, on March 10, 1997 (62 FR 10690), we approved revisions to Regulation No. 11, including Appendices A and B (see 40 CFR 52.320(c)(80)). The December 14, 2001, approval should not have superseded and replaced Appendices A and B of Regulation No. 11 approved on March 10, 1997, because the December 14, 2001, approved version of Regulation No. 11 did not contain revisions to Appendices A and B. Therefore, we are correcting the introductory text of 40 CFR 52.320(c)(96) to indicate that the version of Regulation No. 11 being approved supersedes and replaces all earlier versions of Regulation No. 11 except for Appendices A and B to Regulation No. 11 as approved at 40 CFR 52.320(c)(80).

B. Correction to Federal Register Document Published on April 25, 1999 (64 FR 46279)

On April 25, 1999 (64 FR 46279), we approved the Colorado Springs carbon monoxide area redesignation to attainment and maintenance plan. In the notice approving that plan we chronicled the history of Federal Register actions that had been completed for the Colorado Springs carbon monoxide area. Among other things we indicated that we approved the Clean Air Campaign into the SIP on May 30, 1989 (54 FR 22893), because of its underlying benefits for the area (see our April 25, 1999, document, 64 FR 46281, right column). However, in our April 25, 1999, document, we failed to mention that the maintenance plan being approved removes the Clean Air Campaign from the SIP. Therefore, we are correcting 40 CFR 52.349(c) to indicate that the Clean Air Campaign, approved at 40 CFR 52.320(c)(43)(i)(A), has been removed from the SIP.

C. Correction to Federal Register Document Published on May 30, 1995 (60 FR 28055)

When we approved revisions to the Colorado Ozone State Implementation Plan (SIP) along with amendments to Regulation No. 7, “Regulation To Control Emissions of Volatile Organic Compounds,” on May 30, 1995 (60 FR 28055), we inadvertently submitted extraneous pages for incorporation by reference into the SIP. Therefore, we are correcting this error by resubmitting the incorporation by reference material in 40 CFR 52.320(c)(70)(i)(A) to the Air and Radiation Docket and Information Center and the Office of the Federal Register. Additionally, the regulatory text in 40 CFR 52.320(c)(70)(i)(A) incorrectly referenced two state rules. The reference to “7.IX.N.” and “7.IX.O.” should have been “7.IX.M.” and “7.IX.N.” We are correcting the references to the state rules. This correction only impacts our May 30, 1995, approval and does not supersede subsequent actions on Regulation No. 7 that have been approved since May 30, 1995.

II. Statutory and Executive Order Review

Under Executive Order 12866 (58 FR 51735, October 4, 1993), this action is not a “significant regulatory action” and is therefore not subject to review by the Office of Management and Budget. This rule is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in the Supplementary Information section above, it is not subject to the regulatory flexibility provisions of the Regulatory Flexibility Act (5 U.S.C 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the Federal government and Indian tribes, or on the distribution of power and responsibilities between the Federal government and Indian tribes, as specified by Executive Order 13175 (65 FR 67249, November 9, 2000), nor will it have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant.

This technical correction action does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings' issued under the executive order. This rule does not impose an information collection burden under the Paperwork Reduction Act of 1995 (44 U.S.C. 3501 et seq.). EPA's compliance with these statutes and Executive Orders for the underlying rules are discussed in the December 14, 2001, rule approving the Denver-Boulder metropolitan carbon monoxide (CO) area redesignation to attainment, maintenance plan and amendments to Colorado's Regulation No. 11 “Motor Vehicle Emissions Inspection Program,” the August 25, 1999, rule approving the Colorado Springs carbon monoxide area redesignation to attainment and maintenance plan, and the May 30, 1995, rule approving the Colorado Ozone State Implementation Plan (SIP) along with amendments to Regulation No. 7, “Regulation To Control Emissions of Volatile Organic Compounds.”

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA has made such a good cause finding, including the reasons therefore, and established an effective date of July 17, 2003. EPA will submit a report containing this rule and other required information to the U.S. Senate, the U.S. House of Representatives, and the Comptroller General of the United States prior to publication of the rule in the Federal Register. These corrections to the identification of plan for Colorado is not a “major rule” as defined by 5 U.S.C. 804(2).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: May 16, 2003.
Robert E. Roberts,
Regional Administrator, Region 8.

40 CFR part 52 is amended as follows:

PART 52—[CORRECTED]

1. The authority citation for part 52 continues to read as follows:

Authority: 42 U.S.C. 7401 et seq.

Subpart G—Colorado

2. Section 52.320 is amended in paragraph (c)(70)(i)(A) by revising “7.IX.N.” to read “7.IX.M” and “7.IX.O.” to read “7.IX.N.” and by revising the introductory text of (c)(96) to read as follows:

§ 52.320 Identification of plan.

* * * * *

(c) * * *

(96) On May 10, 2000, the Governor of Colorado submitted SIP revisions to Colorado's Regulation No. 11 “Motor Vehicle Emissions Inspection Program” that supersede and replace all earlier versions of the Regulation (except Appendices A and B of Regulation No. 11 as approved in paragraph (c)(80)) and make several changes to the motor vehicle inspection and maintenance requirements including the implementation of a remote sensing device (RSD) program for the Denver metropolitan area. On May 10, 2000, the Governor also submitted SIP revisions to Colorado's Regulation No. 13 : “Oxygenated Fuels Program” that supersede and replace all earlier versions of the Regulation and modify the oxygenated fuel requirements for the Denver metropolitan area.

* * * * *

3. Section 52.349 is amended by revising paragraph (c) to read as follows:

§ 52.349 Control strategy: Carbon monoxide.

* * * * *

(c) Revisions to the Colorado State Implementation Plan, Carbon Monoxide Redesignation Request and Maintenance Plan for Colorado Springs, as adopted by the Colorado Air Quality Control Commission on January 15, 1998, State effective March 30, 1998, and submitted by the Governor on August 19, 1998. The Maintenance Plan removes the Clean Air Campaign from the SIP. The Clean Air Campaign was approved into the SIP at 40 CFR 52.320(c)(43)(i)(A).

* * * * *

[FR Doc. 03-13715 Filed 6-16-03; 8:45 am]

BILLING CODE 6560-50-P